EQUAL EMPLOYMENT OPPORTUNITY COMMISSION

SES Performance Review Board; Appointment of Members

AGENCY: Equal Employment Opportunity Commission.

ACTION: Notice.

SUMMARY: Notice is hereby given of the appointment of members to the Performance Review Board of the Equal Employment Opportunity Commission.

FOR FURTHER INFORMATION CONTACT: Lisa M. Williams, Chief Human Capital Officer, U.S. Equal Employment Opportunity Commission, 131 M Street, NE., Washington, DC 20507, (202) 663-4306.

SUPPLEMENTARY INFORMATION: Publication of the Performance Review Board (PRB) membership is required by 5 U.S.C. 4314(c)(4). The PRB reviews and evaluates the initial appraisal of a senior executive's performance by the supervisor, and makes recommendations to the Chair, EEOC, with respect to performance ratings, pay level adjustments and performance awards.

The following are the names and titles of executives appointed to serve as members of the SES PRE. Members will serve a 12-month term, which begins on October 14, 2011.

PRB Chair

Ms. Katharine M. Kores, Director, Memphis District Office, Equal Employment Opportunity Commission.

Members

Mr. Michael Baldonado, Director, San Francisco District Office, Equal Employment Opportunity Commission;

Ms. Delner Franklin-Thomas, Director, Birmingham District Office, Equal Employment Opportunity Commission;

Ms. Peggy R. Mastroianni, Legal Counsel, Equal Employment Opportunity Commission;

Mr. A. Jacy Thurmond, Associate Commissioner for the Office of Civil Rights and Equal Opportunities, Social Security Administration;

Mr. William Spencer, Clerk, Merit Systems Protection Board.

Alternate

Mr. Reuben Daniels, Jr., Director, Charlotte District Office, Equal Employment Opportunity Commission.

Dated: October 6, 2011.
By the direction of the Commission.
Jacqueline A. Berrien,
Chair.

[FR Doc. 2011-26452 Filed 10-12-11; 8:45 am]

BILLING CODE 6570-01-M